DEPARTMENT OF HEALTH AND HUMAN SERVICES

National Institutes of Health

National Institute of Neurological Disorders and Stroke; Notice of Meeting

Pursuant to section 10(a) of the Federal Advisory Committee Act, as amended (5 U.S.C. Appendix 2), notice is hereby given of a meeting of the Muscular Dystrophy Coordinating Committee.

The meeting will be open to the public, with attendance limited to space available. Individuals who plan to attend and need special assistance, such as sign language interpretation or other reasonable accommodations, should inform the Contact Person listed below in advance of the meeting.

Name of Committee: Muscular Dystrophy Coordinating Committee.

Date: December 1, 2004.

Time: 9 a.m. to 3:30 p.m.

Agenda: The Muscular Dystrophy Coordinating Committee (MDCC) will hold a meeting to learn about activities and recent initiatives at various federal agencies and within the muscular dystrophy scientific community. The Committee will also discuss strategies to begin to implement the “Muscular Dystrophy Research and Education Plan for the National Institutes of Health,” which the Committee developed in accordance with the MD-CARE Act. Future directions for the MDCC will also be discussed. An agenda will be posted prior to the meeting on the MDCC Web site: http://www.ninds.nih.gov/research/muscular_dystrophy/coordinating_committee

The “Muscular Dystrophy Research and Education Plan for the National Institutes of Health” may be accessed at: http://www.ninds.nih.gov/research/muscular_dystrophy/coordinating_committee/MD_Plan_submitted.pdf

Place: Holiday Inn, Silver Spring, MD, 8777 Georgia Avenue, Silver Spring, MD 20910, 301-589-0800.

Contact Person: Heather Rieff, PhD, Executive Secretary, Muscular Dystrophy Coordinating Committee, Office of Science Policy and Planning, National Institute of Neurological Disorders and Stroke, NIH, 31 Center Drive, Room 8A03, MSC 2540, Bethesda, MD 20892, E-mail: rieffh@ninds.nih.gov, Phone: (301) 496-9271.

Any interested person may file written comments with the committee by forwarding their statement to the Contact Person listed on this notice. The statement should include the name, address, telephone number and when applicable, the business or professional affiliation of the interested person.

(Catalogue of Federal Domestic Assistance Program Nos. 93.853, Clinical Research Related to Neurological Disorders; 93.854, Biological Basis Research in the Neurosciences, National Institutes of Health, HHS)

Dated: November 3, 2004.
LaVerne Y. Stringfield,
Director, Office of Federal Advisory Committee Policy.

[FR Doc. 04-25006 Filed 11-9-04; 8:45 am]

BILLING CODE 4140-01-M